DEPARTMENT OF COMMERCE

Foreign-Trade Zones Board

[S-45-2023]

Foreign-Trade Zone 15—Kansas City, Missouri; Application for Expansion of Subzone 15E; Kawasaki Motors Manufacturing Corp., USA; Maryville, Missouri

An application has been submitted to the Foreign-Trade Zones (FTZ) Board by the Greater Kansas City Foreign-Trade Zone, Inc., grantee of FTZ 15, requesting an expansion of Subzone 15E on behalf of Kawasaki Motors Manufacturing Corp., USA, located in Maryville, Missouri. The application was submitted pursuant to the provisions of the Foreign-Trade Zones Act, as amended (19 U.S.C. 81a-81u), and the regulations of the FTZ Board (15 CFR part 400). It was formally docketed on March 9, 2023.

Subzone 15E was approved on November 27, 1989 (Board Order 454, 54 FR 50257, December 5, 1989). Production authority was expanded on January 20, 1999 (Board Order 1014, 64 FR 5765, February 5, 1999), on July 29, 2002 (Board Order 1239, 67 FR 51535, August 8, 2022) and on August 27, 2009 (Board Order 1643, 74 FR 46087-46088, September 8, 2009). The subzone currently consists of 113 acres located on U.S. Highway 71 in Maryville (Site 1).

The applicant is requesting authority to expand the subzone to include an additional site: Proposed Site 2 (18.47 acres)—2501 Boonslick Drive, Boonville. The existing subzone and the proposed site would be subject to the existing activation limit of FTZ 15. No additional authorization for production activity has been requested at this time.

In accordance with the FTZ Board's regulations, Camille Evans of the FTZ Staff is designated examiner to review the application and make recommendations to the FTZ Board.

Public comment is invited from interested parties. Submissions shall be addressed to the FTZ Board's Executive Secretary and sent to: ftz@trade.gov. The closing period for their receipt is April 24, 2023. Rebuttal comments in response to material submitted during the foregoing period may be submitted during the subsequent 15-day period to May 8, 2023.

A copy of the application will be available for public inspection in the “Online FTZ Information Section” section of the FTZ Board's website, which is accessible via www.trade.gov/ftz.

For further information, contact Camille Evans at Camille.Evans@trade.gov.

Dated: March 9, 2023.
Elizabeth Whiteman,
Acting Executive Secretary.

[FR Doc. 2023-05171 Filed 3-13-23; 8:45 am]

BILLING CODE 3510-DS-P